DEPARTMENT OF COMMERCE

National Oceanic and Atmospheric Administration

DEPARTMENT OF THE INTERIOR

United States Fish and Wildlife Service

[I.D. 010904B]

Marine Mammals; File No. 1038-1693-00/PRT064776

AGENCY: National Marine Fisheries Service (NMFS), National Oceanic and Atmospheric Administration (NOAA), Commerce; U.S. Fish and Wildlife Service, Interior.

ACTION: Issuance of permit.

SUMMARY: Notice is hereby given that Darla Rae Ewalt, Principal Investigator, Diagnostic Bacteriology Laboratory, National Veterinary Services Laboratories, Animal and Plant Health Inspection Service, United States Department of Agriculture, 1800 Dayton Road, Ames, IA 50010, has been issued a permit to import/export marine mammal specimens from Canada for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320; and

Branch of Permits, Division of Management Authority, U.S. Fish and Wildlife Service, 4401 N. Fairfax Drive, Arlington, VA 22203.

FOR FURTHER INFORMATION CONTACT: Ruth Johnson or Jennifer Skidmore, (301)713-2289.

SUPPLEMENTARY INFORMATION: On October 9, 2003, notice was published in the Federal Register (68 FR 58316) that a request for a scientific research permit to import/export marine mammal specimens had been submitted by the above-named individual. The requested permit has been issued under the authority of the Marine Mammal Protection Act of 1972, as amended (16 U.S.C. 1361 et seq.), and the Regulations Governing the Taking and Importing of Marine Mammals (50 CFR parts 18 and 216).

Dated: January 30, 2004.
Amy C. Sloan,
Acting Chief, Permits, Conservation and Education Division, Office of Protected Resources, National Marine Fisheries Service.

Dated: January 30, 2004.
Charlie R. Chandler,
Chief, Branch of Permits (Domestic), Division of Management Authority, U.S. Fish and Wildlife Service.

[FR Doc. 04-2416 Filed 2-4-04; 8:45 am]

BILLING CODE 3510-22-S